DEPARTMENT OF LABOR

Employment and Training Administration

[TA-W-59,057]

Hickory Hardware Belwith International Ltd., Grandville, MI; Notice of Termination of Investigation

Pursuant to section 221 of the Trade Act of 1974, an investigation was initiated on March 17, 2006 in response to a petition filed by a company official on behalf of workers at Hickory Hardware, Belwith International Limited, Grandville, Michigan.

The petitioner has requested that the petition be withdrawn. Consequently, the investigation has been terminated.

Signed in Washington, DC, this 24th day of March 2006.
Elliott S. Kushner,
Certifying Officer, Division of Trade Adjustment Assistance.

[FR Doc. E6-5376 Filed 4-11-06; 8:45 am]

BILLING CODE 4510-30-P